DEPARTMENT OF ENERGY

Federal Energy Regulatory Commission

[Docket No. CP03-295-000]

Clear Fork Pipeline Company; Notice of Petition for Declaratory Order

June 4, 2003.

Take notice that on May 9, 2003, Clear Fork Pipeline Company (Clear Fork) filed with the Federal Energy Regulatory Commission (Commission) pursuant to rule 207(a)(2) of the Commission's rules of practice and procedure, 18 CFR 385.207(a)(2), a Petition for Declaratory Order in Docket No. CP03-295-000, requesting that the Commission declare that the acquisition by Clear Fork of Colorado Interstate Gas Company's (CIG) Silver Tip Lateral in Park County, Wyoming, and the subsequent ownership and operation of these facilities, will have the primary function of gathering of natural gas and thereby be exempt from the Commission's jurisdiction pursuant to section 1(b) of the Natural Gas Act (NGA).

Clear Fork states that the Silver Tip Lateral is a 5.3 mile lateral consisting of 4 pipeline, terminating at the Elk Basin Plant in Park County, Wyoming. Clear Fork states that it purchased all of CIG's rights, title and interests in the Silver Tip Lateral and related facilities pursuant to a Purchase and Sale Agreement dated July 1, 2002 and that the line currently is idle.

Following Commission action on the instant petition, Clear Fork states that it intends to incorporate the Silver Tip Lateral and related facilities into the preexisting non-jurisdictional gathering system and intends to operate such facilities as an integral part of the gathering and production facilities needed to gather natural gas and transport it to the Elk Basin Plant for processing.

Clear Fork states that CIG has abandoned the Silver Tip Lateral and related facilities under its blanket authorization in Docket No. CP83-21. Clear Fork states that because it is not otherwise engaged in the ownership and operation of facilities in interstate commerce that are subject to the NGA and the Commission's jurisdiction, a declaratory order is requested disclaiming jurisdiction over Clear Fork's ownership and operation of the facilities purchased from CIG.

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Comment Date: June 19, 2003.

Magalie R. Salas,
Secretary.

[FR Doc. 03-14609 Filed 6-10-03; 8:45 am]

BILLING CODE 6717-01-P